DEPARTMENT OF ENERGY

Federal Energy Regulatory Commission

[Docket No. EL18-22-000]

Wabash Valley Power Association, Inc.; Notice of Petition for Partial Waiver

Take notice that on October 17, 2017, pursuant to section 292.402 of the Federal Energy Regulatory Commission's (Commission) Rules and Regulations,¹ Wabash Valley Power Association, Inc. (WVPA), on behalf of itself and its seventeen participating electric distribution cooperative member-owners (collectively, the Participating Members),² filed a partial waiver of certain obligations imposed on WVPA and the Participating Members under sections 292.303(a) and 292.303(b) of the Commission's regulations ³ implementing section 210 of the Public Utility Regulatory Policies Act of 1978, as amended,⁴ all as more fully explained in the petition.

¹ 18 CFR 292.402.

² The Participating Members joining in this application include the following electric distribution cooperative member-owners of WVPA who have entered into an all-requirements power supply contract with WVPA to purchase from WVPA substantially all of its electric requirements: Boone REMC, Carroll White County REMC, Citizens Electric Corporation, Corn Belt Energy, EnerStar Electric Cooperative, Fulton County REMC, Heartland REMC, Jay County REMC, Kosciusko REMC, LaGrange County REMC, Marshall County REMC, Miami-Cass REMC, M.J.M. Electric Cooperative, Newton County REMC, Noble REMC, Steuben County REMC, and Warren County REMC.

³ 18 CFR 292.303(a) and (b).

⁴ 16 U.S.C. 824a-3.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the eFiling link at http://www.ferc.gov. Persons unable to file electronically should submit an original and 5 copies of the protest or intervention to the Federal Energy Regulatory Commission, 888 First Street NE., Washington, DC 20426.

This filing is accessible on-line at http://www.ferc.gov, using the eLibrary link and is available for review in the Commission's Public Reference Room in Washington, DC. There is an eSubscription link on the Web site that enables subscribers to receive email notification when a document is added to a subscribed docket(s). For assistance with any FERC Online service, please email FERCOnlineSupport@ferc.gov, or call (866) 208-3676 (toll free). For TTY, call (202) 502-8659.

Comments: 5:00 p.m. Eastern Time on November 7, 2017.

Dated: October 17, 2017.
Kimberly D. Bose,
Secretary.

[FR Doc. 2017-22919 Filed 10-20-17; 8:45 am]

BILLING CODE 6717-01-P